DEPARTMENT OF LABOR

Employment and Training Administration

[TA-W-65,305]

Samuel Steel Pickling Company; Twinsburg, OH; Notice of Termination of Investigation

Pursuant to Section 221 of the Trade Act of 1974, as amended, an investigation was initiated on February 19, 2009 in response to a petition filed on behalf of workers of Samuel Steel Pickling Company, Twinsburg, Ohio.

The petitioners have requested that the petition be withdrawn. Consequently, the investigation has been terminated.

Signed at Washington, DC, this 17th day of March 2009.
Elliott S. Kushner,
Certifying Officer, Division of Trade Adjustment Assistance.

[FR Doc. E9-7145 Filed 3-30-09; 8:45 am]

BILLING CODE 4510-FN-P